DEPARTMENT OF VETERANS AFFAIRS

38 CFR Part 19

RIN 2900-AK14

Appeals Regulations: Title for Members of the Board of Veterans' Appeals

AGENCY: Department of Veterans Affairs.

ACTION: Final rule.

SUMMARY: This document amends the Department of Veterans Affairs' (VA) Appeals Regulations to provide that a Member of the Board of Veterans' Appeals (Board) may also be known as a “veterans law judge.”

DATES: Effective Date: September 14, 2000.

FOR FURTHER INFORMATION CONTACT: Steven L. Keller, Senior Deputy Vice Chairman, Board of Veterans' Appeals, Department of Veterans Affairs, 810 Vermont Avenue, NW., Washington, DC 20420 (202-565-5978).

SUPPLEMENTARY INFORMATION: The Board of Veterans' Appeals (Board) is an administrative body that decides appeals from denials of claims for veterans' benefits, after an opportunity for a hearing. There are currently 59 Board “members,” who decide 35,000 to 40,000 such appeals per year.

Board members other than the Chairman are appointed by the Secretary of Veterans Affairs, with the approval of the President of the United States, 38 U.S.C. 7101A(a)(1), and must be licensed attorneys, 38 U.S.C. 7101A(a)(2). Board members are compensated at rates equivalent to the rates payable to Administrative Law Judges. 38 U.S.C. 7101A(b).

Throughout the Executive Branch, individuals who decide appeals at the administrative level after the opportunity for a hearing—as do Board members—are known as “judges.” E.g., “Administrative Law Judges,” 5 U.S.C. 3105; “Administrative Appeals Judges” at the Benefits Review Board at the Department of Labor, 20 CFR 801.2; “Administrative Judges” at The Financial Assistance Appeals Board of the Department of Energy, 10 CFR 1024.3; “Administrative Judges” at the Equal Employment Opportunity Commission, 29 CFR 1614.109; “Administrative Judges” at the Personnel Appeals Board of the General Accounting Office, 4 CFR 28.3; “Administrative Judges” at the Merit Systems Protection Board, 5 CFR 1201.4; “Administrative Judges” at the National Aeronautics and Space Administration, 14 CFR 1259.404; and “Administrative Judges” at the Office of Hearings and Appeals, Small Business Administration, 13 CFR 134.101. See also “Administrative Appeals Judges” at the Office of Hearings and Appeals of the Social Security Administration, 20 CFR 416.924(g) (decide appeals from decisions of administrative law judges, but without the opportunity for a hearing); “Immigration Judges” at the Immigration and Naturalization Service in the Department of Justice, 8 CFR 1.1(l) (initial decisions in immigration cases).

This final rule will permit Board members to be known as “veterans law judges.” This title will convey a Board member's function to veterans more accurately than the term “member.” In addition, the title will enhance the confidence of veterans in the administrative appellate process by providing recognition that appeals in the VA system are adjudicated by legal professionals, as are benefit appeals in other administrative systems.

This final rule concerns agency organization, procedure or practice and, pursuant to 5 U.S.C. 553, is exempt from notice and comment requirements. In addition, because this final rule is not a substantive rule, but rather a rule of agency practice, it is not subject to the delayed effective date provisions of 5 U.S.C. 553(d).

This final rule has been reviewed by the Office of Management and Budget under Executive Order 12866.

The Secretary hereby certifies that this final rule will not have a significant economic impact on a substantial number of small entities as they are defined in the Regulatory Flexibility Act, 5 U.S.C. 601-612. This rule will affect VA beneficiaries and will not affect small businesses.

Therefore, pursuant to 5 U.S.C. 605(b), this final rule is exempt from the initial and final regulatory flexibility analyses requirement of sections 603 and 604.

List of Subjects in 38 CFR Part 19

Administrative practice and procedure, Claims, Veterans.

Approved: July 5, 2000.
Togo D. West, Jr.,
Secretary of Veterans Affairs.

For the reasons set out in the preamble, 38 CFR part 19 is amended as set forth below:

PART 19—BOARD OF VETERANS' APPEALS: APPEALS REGULATIONS

1. The authority citation for part 19 continues to read as follows:

Authority: 38 U.S.C. 501(a), unless otherwise noted.

2. Section 19.2 is revised to read as follows:

§ 19.2 Composition of the Board; Titles.

(a) The Board consists of a Chairman, Vice Chairman, Deputy Vice Chairmen, Members and professional, administrative, clerical and stenographic personnel. Deputy Vice Chairmen are Members of the Board who are appointed to that office by the Secretary upon the recommendation of the Chairman.

(b) A member of the Board (other than the Chairman) may also be known as a “veterans law judge.” An individual designated as an acting member pursuant to 38 U.S.C. 7101(c)(1) may also be known as an “acting veterans law judge.”

(Authority: 38 U.S.C. 501(a), 512, 7101(a))

[FR Doc. 00-23567 Filed 9-13-00; 8:45 am]

BILLING CODE 8320-01-P